DEPARTMENT OF ENERGY

Western Area Power Administration

Agency Information Collection Extension

AGENCY: Western Area Power Administration, DOE.

ACTION: Submission for Office of Management and Budget (OMB) review; comment request.

SUMMARY: The Department of Energy (DOE) has submitted an information collection request to the OMB for extension under the provisions of the Paperwork Reduction Act of 1995. The information collection requests a three-year extension of Western Area Power Administration's (WAPA) Applicant Profile Data (APD), OMB Control Number 1910-5136. The proposed collection is necessary for the proper performance of WAPA's functions. WAPA markets a limited amount of Federal hydropower. Due to the high demand for WAPA's power, WAPA needs the ability to collect information under the information collection request in order to evaluate who may receive an allocation of Federal power pursuant to specific marketing plans. This APD public process only determines the information WAPA will collect in its information collection request. The actual allocation of Federal power will be conducted through a separate marketing plan process outside the scope of this APD process.

DATES: Comments regarding this collection must be received on or before November 6, 2020. If you anticipate that you will be submitting comments, but find it difficult to do so within the period of time allowed by this notice, please advise the OMB Desk Officer of your intention to make a submission as soon as possible. The Desk Officer may be telephoned at (202) 395-4718.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Ms. Erin Green, Power Marketing and Energy Services Specialist, Western Area Power Administration, P.O. Box 281213, Lakewood, CO 80228, telephone (720) 962-7016, or email egreen@wapa.gov. The proposed APD form is available on WAPA's website at www.wapa.gov/PowerMarketing/Pages/applicant-profile-data.aspx.

SUPPLEMENTARY INFORMATION: This information collection request contains: (1) OMB No.: 1910-5136; (2) Information Collection Request Title: Western Area Power Administration (WAPA) Applicant Profile Data; (3) Type of Review: Renewal; (4) Purpose: WAPA is collecting—and will continue to collect—the data under its APD to properly perform its function of marketing a limited amount of Federal hydropower. The information WAPA collects is voluntary. Due to the high demand for WAPA's power and limited amount of available power, WAPA will use the information collected in the APD—and has used the information collected under the current OMB-approved control number—pursuant to its marketing plans, to determine an applicant's eligibility for an allocation of Federal power. As a result, the information WAPA collects under its APD is both necessary and useful. WAPA notes the Paperwork Reduction Act is the process whereby WAPA obtains approval from OMB to collect information from the public. It is a legal requirement WAPA must comply with before requesting an interested party submit an application for power. The Paperwork Reduction Act process is not the process in which interested parties apply for a new allocation of Federal power. The allocation of power from WAPA is outside the scope of this process and is completed in a separate marketing plan process by each WAPA region, when required; (5) Annual Estimated Number of Respondents: 33.333; (6) Annual Estimated Number of Total Responses: 33.333; (7) Annual Estimated Number of Burden Hours: 250; (8) Annual Estimated Reporting and Recordkeeping Cost Burden: $32,046.98.

Statutory Authority: Reclamation Laws are a series of laws arising from the Desert Land Act of 1877 and include, but are not limited to: The Desert Land Act of 1877, Reclamation Act of 1902, Reclamation Project Act of 1939, and the Acts authorizing each individual project such as the Central Valley Project Authorizing Act of 1937. See Ch. 107, 19 stat. 377 (1877), Ch. 1093, 32 Stat. 388 (1902), Ch. 418, 53 Stat. 1187 (1939), Ch. 832, 50 Stat. 844, 850 (1937), all as amended and supplemented. The Reclamation Act of 1902 established the Federal reclamation program. See Ch. 1093, 32 Stat. 388 (1902), as amended and supplemented. The basic principle of the Reclamation Act of 1902 was that the United States, through the Secretary of the Interior, would build and operate irrigation works from the proceeds of public land sales in the sixteen arid Western states (a seventeenth was later added). The Reclamation Project Act of 1939 expanded the purposes of the reclamation program and specified certain terms for contracts that the Secretary of the Interior enters into to furnish water and power. See Ch. 418, 53 Stat. 1187 (1939), as amended and supplemented. In 1977, the Department of Energy Organization Act transferred the power marketing functions of the Department of the Interior to the Secretary of Energy, acting by and through a separate Administrator for WAPA. See 42 U.S.C. 7152(a)(1)(D). Section 5 of the Flood Control Act of 1944 is read in pari materia with Reclamation Laws with respect to WAPA. See Act of December 22, 1944, Ch. 665, 58 Stat. 887, as amended and supplemented.

Signing Authority

This document of the Department of Energy was signed on September 30, 2020, by Mark A. Gabriel, Administrator, Western Area Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 2, 2020.
Treena V. Garrett,
Federal Register Liaison Officer, U.S. Department of Energy.

[FR Doc. 2020-22168 Filed 10-6-20; 8:45 am]

BILLING CODE 6450-01-P